DEPARTMENT OF THE INTERIOR

Office of Surface Mining Reclamation and Enforcement

Public Meetings To Discuss the Preparation of an Environmental Impact Statement on Excess Spoil Generation and Disposal and Stream Buffer Zones Rulemaking

AGENCY: Office of Surface Mining Reclamation and Enforcement, Interior.

ACTION: Notice of meetings.

SUMMARY: On June 16, 2005, we, the Office of Surface Mining Reclamation and Enforcement (OSM), announced in the Federal Register our intent to prepare an environmental impact statement (EIS) to analyze the effects of possibly revising our regulations pertaining to excess spoil generation and disposal, and stream buffer zones. We asked you to contact us if you wanted us to meet with you to discuss the scope of the proposed action, reasonable alternatives to the proposed action, and significant issues that should be examined in the course of preparing the EIS.

Eighteen people contacted us to request public scoping meetings at various locations in the Appalachian coal fields. We are pleased to accommodate these requests by holding scoping meetings in Knoxville, Tennessee; Hazard, Kentucky; Charleston, West Virginia; and Pittsburgh, Pennsylvania. Details applicable to these meetings are contained in this announcement.

DATES: The meeting dates are:

1. August 22, 2005, 6 p.m. to 9 p.m., Knoxville, TN.

2. August 23, 2005, 6 p.m. to 9 p.m., Hazard, KY.

3. August 24, 2005, 6 p.m. to 9 p.m., Charleston, WV.

4. August 25, 2005, 6 p.m. to 9 p.m., Pittsburgh, PA.

ADDRESSES: The meeting locations are:

1. Knoxville—Hilton Hotel, Sequoia Room, 501 W. Church Avenue, Southwest, Knoxville, Tennessee.

2. Hazard—Hazard Community Technical College, One Community College Drive, First Federal Center, Room 123A, Hazard, Kentucky.

3. Charleston—Embassy Suites Hotel, Ballroom ABC, 300 Court Street, Charleston, West Virginia.

4. Pittsburgh—Best Western Parkway Center, 8th Floor in the Horizon Room, 875 Greentree Road, Greentree, Pennsylvania.

FOR FURTHER INFORMATION CONTACT: David G. Hartos, Office of Surface Mining Reclamation and Enforcement, U.S. Department of the Interior, 3 Parkway Center, Pittsburgh, PA 15220; telephone: (412) 937-2909. E-mail address: DHARTOS@OSMRE.GOV.

SUPPLEMENTARY INFORMATION: On January 7, 2004, we published in the Federal Register proposed changes to regulations regarding excess spoil disposal, the stream buffer zone, and corresponding changes to the stream diversion regulations. In that notice, we said that we prepared a draft environmental assessment (EA) on the rule and that it was available for review. We also said that we had tentatively concluded that the proposed rule will not have a significant effect on the human environment, and that we anticipate that a finding of no significant impact (FONSI) would be issued with the final rule.

We subsequently determined that preparation of an EIS would be an appropriate mechanism to fully assess alternative approaches to these specific proposed actions and their potential impacts. On June 16, 2005 (70 FR 35122), we published a notice in the Federal Register announcing our intent to prepare an EIS to analyze the effects of possibly revising our regulations pertaining to excess spoil generation and disposal and stream buffer zones. We asked for your input regarding the scope of impacts of the proposed action, the topics that we should examine, and any reasonable alternatives that should be considered. We also said that we would hold meetings if there was sufficient interest in having such meetings.

Eighteen people, some representing organizations, contacted us and asked for meetings in various locations in the Appalachian coal fields. We are pleased to accommodate these requests by holding four meetings at the sites listed under ADDRESSES.

These meetings will be open to anyone who would like to attend and participate. The primary purpose of the meetings is to assist us in focusing the preparation of the upcoming EIS on those significant issues and reasonable alternatives related to the proposed action. Other issues to be discussed are impact topics, data needs, and national, State, and local concerns. The meetings will be informal and interactive and, where possible, seating will be around small tables to facilitate the exchange of ideas. The meetings are not intended to be adversarial or a debate on the merits of the proposed action.

We will keep detailed notes of the meeting and make these notes publicly available in the administrative record. Please note that we will not have a court reporter present and oral testimony will not be taken and transcribed, but we will accept written comments and suggestions regarding the upcoming EIS.

Any disabled individual who needs special accommodation to attend a public hearing is encouraged to contact the person listed under FOR FURTHER INFORMATION CONTACT.

Dated: August 3, 2005.
Michael K. Robinson,
Acting Regional Director, Appalachian Region, Office of Surface Mining Reclamation and Enforcement.

[FR Doc. 05-15790 Filed 8-9-05; 8:45 am]

BILLING CODE 4310-05-P